DEPARTMENT OF JUSTICE

Immigration and Naturalization Service

[INS No. 2237-02; AG Order No. 2624-2002]

Extension of the Designation of Sierra Leone Under the Temporary Protected Status Program

AGENCY: Immigration and Naturalization Service, Justice.

ACTION: Notice.

SUMMARY: The Attorney General's most recent extension of the designation of Sierra Leone under the Temporary Protected Status (TPS) program expires on November 2, 2002. This notice announces the Attorney General's decision to extend the TPS designation for Sierra Leone for an additional period of 12 months, as provided by law, and contains information regarding the 12-month extension of TPS.

DATES: The TPS designation for Sierra Leone is extended for a period of 12 months, from November 2, 2002, through November 2, 2003. The re-registration period commences on October 31, 2002, and will remain in effect until December 30, 2002 (inclusive of such end date).

FOR FURTHER INFORMATION CONTACT: Naheed A. Qureshi, Office of Adjudications, Residence and Status Branch, Immigration and Naturalization Service, Room 3040, 425 I Street, NW., Washington, DC 20536, telephone (202) 514-4754.

SUPPLEMENTARY INFORMATION:

What Is the Statutory Authority for the Designation and Extension of TPS?

Under section 244 of the Immigration and Nationality Act (Act), 8 U.S.C. 1254a, the Attorney General is authorized to designate a foreign state (or part thereof) for TPS. The Attorney General may then grant TPS to eligible nationals of that foreign state (or aliens having no nationality who last habitually resided in that state).

Section 244(b)(3)(A) of the Act requires the Attorney General to review, at least 60 days before the end of the TPS designation, the conditions in a foreign state designated under the TPS program to determine whether the conditions for a TPS designation continue to be met and, if so, the length of an extension of TPS that is granted on the basis of such a determination. 8 U.S.C. 1254a(b)(3)(A). If the Attorney General determines that the foreign state no longer meets the conditions for TPS designation, the Attorney General shall terminate the designation, as provided in section 244(b)(3)(B) of the Act. 8 U.S.C. 1254a(b)(3)(B). Finally, if the Attorney General does not make the required determination prior to the 60-day period prescribed by statute, section 244(b)(3)(C) of the Act provides for an automatic extension of TPS for an additional period of 6 months (or, in the discretion of the Attorney General, a period of 12 or 18 months). 8 U.S.C. 1254a(b)(3)(C).

Why Is the Sierra Leone TPS Designation Being Extended?

The Administration, including the Departments of State and Justice, as well as the National Security Council, is actively and closely monitoring conditions in and developments relating to Sierra Leone. The United States Government recognizes that there has been considerable progress toward renewed stability in Sierra Leone. In January 2002, the country's decade-long war was declared over. More than 45,000 combatants have been demobilized. In May 2002, violence-free elections were successfully completed. More recently, on September 24, 2002, the United Nations Security Council voted unanimously to adopt a resolution extending the mandate of the United Nations Assistance Mission in Sierra Leone (UNAMSIL) for six months, while implementing the Secretary General's recommendation for a phased, gradual draw-down of UNAMSIL. The resolution urges UNAMSIL to carry out Phases 1 and 2 of the draw-down over the next eight months, which would reduce UNAMSIL's troop strength from 17,500 to 13,000 (a reduction of approximately 25%). In addition, the situation in Liberia, which affects regions of neighboring Sierra Leone, remains unstable. On October 1, 2002, the Attorney General designated Liberia under the TPS program.

The Attorney General consulted with appropriate agencies of the Government, but due to the nature of the situation in Sierra Leone, has not made a determination whether the conditions for TPS designation continue to be met. Accordingly, this Federal Register notice does not contain the Attorney General's determination regarding whether or not the conditions in Sierra Leone continue to satisfy the statutory standards for an extension of TPS under section 244(b)(3)(A) of the Act. Instead, as a result of the 60-day requirement prescribed by statute, this notice provides that the previous TPS designation for Sierra Leone has been extended pursuant to section 244(b)(3)(C) of the Act. 8 U.S.C. 1254a(b)(3)(C). As an exercise of discretion, the Attorney General has decided to extend TPS for 12 months, as allowed under that provision, rather than the minimum period of six months in order to allow a sufficient period of time to monitor further developments in Sierra Leone.

No later than 60 days prior to the November 2, 2003, expiration of this extension, the Attorney General will determine whether the conditions for TPS designation continue to be met in Sierra Leone at that time, or whether TPS should be terminated at the time the current extension of TPS expires. Notice of that determination, including the basis for the determination, will be published in the Federal Register.

If I Currently Have TPS Benefits Through the Sierra Leone TPS Program, Must I Still Re-Register for TPS?

Yes. If you already have received TPS benefits through the Sierra Leone TPS program, your benefits will expire on November 2, 2002. While the designation of Sierra Leone under the TPS program was extended automatically by virtue of statute, individual TPS beneficiaries must still comply with the re-registration requirements described below in order to maintain their TPS benefits through November 2, 2003. TPS benefits include temporary protection against removal from the United States, as well as work authorization, during the TPS designation period and any extension thereof. 8 U.S.C. 1254a(a)(1).

If I Am Currently Registered for TPS, How Do I Re-Register for an Extension?

All persons previously granted TPS benefits under the Sierra Leone TPS program who wish to maintain such benefits must apply for an extension by filing (1) Form I-821, Application for Temporary Protected Status, without the filing fee; (2) Form I-765, Application for Employment Authorization; and (3) two identification photographs (1½ inches x 1½ inches). See the chart below to determine whether you must submit the one hundred and twenty dollar ($120) filing fee with the Form I-765. Children beneficiaries of TPS, who have reached the age of 14 but were not previously fingerprinted, must pay the fifty dollar ($50) fingerprint fee upon their next application for extension.

Submit the re-registration package to the Service district office that has jurisdiction over your place of residence during the 60-day re-registration period that begins October 31, 2002, and will remain in effect until December 30, 2002.

If | Then
You are applying for an Employment Authorization Document that is valid through November 2, 2003. . . | You must complete and file Form I-765, Application for Employment Authorization, with the $120 fee.
You already have an Employment Authorization Document or do not require such a document. . . | You must complete and file Form I-765 with no fee.

Employment authorization documentation: An applicant who seeks employment authorization documentation must submit Form I-765 with the $120 fee. An applicant who does not seek employment authorization documentation does not need to submit the $120 fee, but must still complete and submit Form I-765 for data gathering purposes.

Fee waiver: Applicants may request that certain fees be waived, in accordance with the regulations at 8 CFR 244.20.

How Does an Application for TPS Affect My Application for Asylum or Other Immigration Benefits?

An application for TPS does not affect an application for asylum or any other immigration benefit, and vice versa. Denial of an application for asylum or any other immigration benefit does not affect an applicant's TPS eligibility, although the grounds for denying one form of relief may also be grounds for denying TPS. For example, a person who has been convicted of a particularly serious crime is not eligible for asylum or TPS. 8 U.S.C. 1158(b)(2); 8 U.S.C. 1254a(c)(2)(B)(i).

Does This Extension Allow Nationals of Sierra Leone (or Aliens Having No Nationality Who Last Habitually Resided in Sierra Leone) Who Entered the United States After November 9, 1999, To Apply for TPS?

No. This is a notice of an extension of TPS, not a notice of re-designation of Sierra Leone under the TPS program. An extension of TPS does not change the required dates of continuous residence and continuous physical presence in the United States. This extension does not expand TPS availability to those who are not already TPS class members. To be eligible for benefits under this extension, nationals of Sierra Leone (or aliens having no nationality who last habitually resided in Sierra Leone) must have been continuously physically present and continuously resided in the United States since November 9, 1999.

What Is Late Initial Registration?

Some persons may be eligible for late initial registration under 8 CFR 244.2(f)(2). To apply for late initial registration an applicant must:

(1) Be a national of Sierra Leone (or an alien who has no nationality and who last habitually resided in Sierra Leone);

(2) Have been continuously physically present in the United States since November 9, 1999;

(3) Have continuously resided in the United States since November 9, 1999; and,

(4) Be both admissible as an immigrant, except as otherwise provided under section 244(c)(2)(A) of the Act, and also not ineligible under section 244(c)(2)(B) of the Act. 8 U.S.C. 1254a(c)(2)(A), 8 U.S.C. 1254a(c)(2)(B).

Additionally, the applicant must be able to demonstrate that, during the re-designation registration period from November 9, 1999, through November 2, 2000, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant. 8 CFR 244.2(f)(2).

An applicant for late initial registration must file an application for late registration within a 60-day period immediately following the expiration or termination of the conditions described above. 8 CFR 244.2(g).

What Happens When This Extension of TPS Expires on November 2, 2003?

At least 60 days before this extension of TPS expires on November 2, 2003, the Attorney General will review conditions in Sierra Leone and determine whether the conditions for designation under the TPS program continue to be met at that time, or whether the TPS designation should be terminated. Notice of that determination, including the basis for the determination, will be published in the Federal Register.

If the TPS designation is extended at that time, an alien who has received TPS benefits must re-register under the extension in order to maintain TPS benefits. If, however, the Attorney General terminates the TPS designation, TPS beneficiaries will return to the same immigration status they maintained before TPS (unless that status had since expired or been terminated) or to any other status they may have acquired while registered for TPS. Accordingly, if an alien had no lawful immigration status prior to receiving TPS and did not obtain any status during the TPS period, he or she will revert to that unlawful status upon termination of the TPS designation.

Notice of Automatic Extension of the Designation of Sierra Leone Under the TPS Program

Pursuant to section 244(b)(3)(C) of the Act, I order as follows:

(1) The designation of Sierra Leone for TPS under section 244(b) of the Act is extended for a period of 12 months, from November 2, 2002 through November 2, 2003.

(2) I estimate that there are approximately 2,209 nationals of Sierra Leone (and aliens having no nationality who last habitually resided in Sierra Leone) who currently receive TPS benefits and who are eligible to re-register for benefits under this extension.

(3) To maintain TPS, a national of Sierra Leone (or an alien having no nationality who last habitually resided in Sierra Leone) who previously has applied for or received TPS benefits must re-register for TPS during the 60-day re-registration period from October 31, 2002 until December 30, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization documentation, he or she must submit one hundred and twenty dollars ($120) or a properly documented fee waiver request, pursuant to 8 CFR 244.20, with the Form I-765. An applicant who does not request employment authorization documentation must nonetheless file Form I-765 along with Form I-821, but is not required to submit the fee. The fifty-dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on November 2, 2003, the Attorney General will review conditions in Sierra Leone and determine whether the conditions for TPS designation continue to be met. Notice of that determination, including the basis for the determination, will be published in the Federal Register. 8 U.S.C. 1254a(b)(3).

(6) Information concerning the extension of the TPS program for Sierra Leone will be available at local Service offices upon publication of this notice and through the Immigration and Naturalization Service National Customer Service Center at 1-800-375-5283. This information will also be published on the INS web site at http://www.ins.usdoj.gov.

Dated: October 28, 2002.
John Ashcroft,
Attorney General.

[FR Doc. 02-27796 Filed 10-30-02; 8:45 am]

BILLING CODE 4410-10-P